NATIONAL ARCHIVES AND RECORDS ADMINISTRATION

[NARA-2020-009]

Records Management; General Records Schedule (GRS); GRS Transmittal 30

AGENCY: National Archives and Records Administration (NARA).

ACTION: Notice of new General Records Schedule (GRS) Transmittal 30.

SUMMARY: NARA is issuing revisions to the General Records Schedule (GRS). The GRS provides mandatory disposition instructions for administrative records common to several or all Federal agencies. Transmittal 30 includes only changes we have made to the GRS since we published Transmittal 29 in December 2017. Additional GRS schedules remain in effect that we are not issuing via this transmittal.

DATES: This transmittal is applicable December 19, 2019.

ADDRESSES: You can find all GRS schedules, crosswalks, and FAQs at http://www.archives.gov/records-mgmt/grs.html (in Word, PDF, and CSV formats). You can download the complete current GRS, in PDF format, from the same location.

FOR FURTHER INFORMATION CONTACT: For more information about this notice or to obtain paper copies of the GRS, contact Kimberly Keravuori, Regulatory and External Policy Program Manager, by email at regulation_comments@nara.gov or by telephone at 301.837.3151.

Writing and maintaining the GRS is the GRS Team's responsibility. This team is part of Records Management Services in the National Records Management Program, Office of the Chief Records Officer at NARA. You may contact NARA's GRS Team with general questions about the GRS at GRS_Team@nara.gov.

Your agency's records officer may contact the NARA appraiser or records analyst with whom your agency normally works for support in carrying out this transmittal and the revised portions of the GRS. You may access a list of the appraisal and scheduling work group and regional contacts on our website at http://www.archives.gov/records-mgmt/appraisal/index.html.

SUPPLEMENTARY INFORMATION: GRS Transmittal 30 announces changes to the General Records Schedules (GRS) made since we published GRS Transmittal 29 in December 2017. The GRS provide mandatory disposition instructions for records common to several or all Federal agencies. Transmittal 30 includes additions and revisions to eight previously issued schedules. We are no longer issuing crosswalks and FAQs as part of the transmittal. You can find all schedules (in Word and PDF formats), a master crosswalk, FAQs for all schedules, and FAQs about the whole GRS at http://www.archives.gov/records-mgmt/grs.html. At the same location, you can also find the entire GRS (just schedules—no crosswalks or FAQs) in a single document you can download.

1. What changes does this transmittal make to the GRS?

GRS Transmittal 30 publishes new items in six schedules:

GRS 1.1 Financial Management and Reporting Records | DAA-GRS-2018-0003
GRS 2.1 Employee Acquisition Records | DAA-GRS-2018-0008
GRS 2.3 Employee Relations Records | DAA-GRS-2018-0002
GRS 2.4 Employee Compensation and Benefits Records | DAA-GRS-2018-0001 and DAA-GRS-2019-0004
GRS 4.1 Records Management Records | DAA-GRS-2019-0003
GRS 4.2 Information Access and Protection Records | DAA-GRS-2019-0001

This transmittal also publishes updates to previously approved items in two schedules:

GRS 1.3 Budgeting Records | DAA-GRS-2015-0006
GRS 5.7 Agency Accountability Records | DAA-GRS-2017-0008

We discuss these new and altered items in the questions below.

2. What changes did we make to GRS 1.1?

We added items 090 and 100 to cover purchase and travel credit card applications/approval, and Small and Disadvantaged Business Utilization records. We removed Item 013, Data submitted to the Federal Procurement Data System (FPDS), because these records no longer exist as a discrete body. Agencies now enter data directly into FPDS.

3. What changes did we make to GRS 1.3?

We added one bullet—carryover requests—to item 020, Budget execution records.

4. What changes did we make to GRS 2.1?

We added items 170, 171, and 180 to cover adverse impact files and recruitment records.

5. What changes did we make to GRS 2.3?

We totally revised this schedule to merge similar items, reducing what was previously 23 items to 13. We also added new items 080 and 100 to cover Merit Systems Protection Board and Federal Labor Relations Authority case files.

6. What changes did we make to GRS 2.4?

We altered the disposition instruction for item 010 to replace the previous event-driven retention period with a uniform retention period of 3 years from creation. We altered the disposition instruction for item 030 to remove authorization to destroy records after GAO audit (agencies must retain the records for 3 years regardless of GAO audit). We added item 035 for records documenting overtime work during phased retirement.

7. What changes did we make to GRS 4.1?

We added item 050 to cover validation records for digitizing temporary records.

8. What changes did we make to GRS 4.2?

We removed from item 001's description the bullet for “control and accounting for classified documents,” as this clause duplicated this schedule's item 030. We removed from item 030 a bullet for “records documenting receipt, internal routing, dispatch, and destruction of unclassified records” since such records no longer exist. We moved records documenting control of classified and controlled unclassified records from item 040 to item 030. We added item 065 to cover privacy complaint files, and items 190 through 195 to cover records of managing a Controlled Unclassified Information (CUI) program.

9. What changes did we make to GRS 5.7?

We made two edits to item 050, Mandatory reports to external Federal entities regarding administrative matters. We replaced the bullet “Information Collection Budget” with “information collection clearances.” The White House produces the Information Collection Budget. This item schedules agency input into that document. We also added three bullets to this same item: EEOC reports, analysis and action plans and other reports required by EEOC's MD 715, and No FEAR Act reports. These records were previously covered in former GRS 2.3, item 035, Equal Employment Opportunity reports and employment statistics files. With the revisions to GRS 2.3 (see question 6), we incorporated these mandatory reports into the GRS item designed to cover a variety of reports.

10. How do agencies cite GRS items?

When you send records to an FRC for storage, you should cite the records' legal authority—the “DAA” number—in the “Disposition Authority” column of the table. Please also include schedule and item number. For example, “DAA-GRS-2017-0007-0008 (GRS 2.2, item 070).”

11. Do agencies have to take any action to implement these GRS changes?

NARA regulations (36 CFR 1226.12(a)) require agencies to disseminate GRS changes within six months of receipt.

Per 36 CFR 1227.12(a)(1), you must follow GRS dispositions that state they must be followed without exception.

Per 36 CFR 1227.12(a)(3), if you have an existing schedule that differs from a new GRS item that does not require being followed without exception, and you wish to continue using your agency-specific authority rather than the GRS authority, you must notify NARA within 120 days of the date of this transmittal.

If you do not have an already existing agency-specific authority but wish to apply a retention period that differs from that specified in the GRS, you must submit a records schedule to NARA for approval via the Electronic Records Archives.

David S. Ferriero,
Archivist of the United States.

[FR Doc. 2019-27326 Filed 12-18-19; 8:45 am]

BILLING CODE 7515-01-P